FEDERAL RETIREMENT THRIFT INVESTMENT BOARD

Sunshine Act Notice

Time and Date: 9 a.m. (EST), January 20, 2004.

Place: 4th Floor, Conference Room, 1250 H Street NW., Washington, DC.

Status: Open.

Matters to be Considered:

9 a.m. (EST) Convene meeting.

1. Approval of the minutes of the December 15, 2003, Board member meeting.

2. Thrift Savings Plan activity report by the Executive Director.

3. Barclays proxy voting.

4. Investment policy review.

FOR FURTHER INFORMATION CONTACT: Thomas J. Trabucco, Director, Office of External Affairs, (202) 942-1640.

Dated: January 6, 2004.
Elizabeth S. Woodruff,
Secretary to the Board, Federal Retirement Thrift Investment Board.

[FR Doc. 04-522 Filed 1-6-04; 4:12 pm]

BILLING CODE 6760-01-P